NUCLEAR REGULATORY COMMISSION

10 CFR Part 20

[NRC-2011-0162]

Consideration of Rulemaking To Address Prompt Remediation of Residual Radioactivity During Operations

AGENCY: Nuclear Regulatory Commission.

ACTION: Notice of public Webinar and request for comment.

SUMMARY: The U.S. Nuclear Regulatory Commission (Commission or NRC) is seeking input from the public, licensees, Agreement States, non-Agreement States, and other stakeholders on a potential rulemaking to address prompt remediation of residual radioactivity during the operational phase of licensed material sites and nuclear reactors. The NRC has not initiated a rulemaking, but is in the process of gathering information and seeking stakeholder input on this subject for developing a technical basis document. To aid in this process, the NRC is requesting comments on the issues discussed in Section III, “Specific Questions,” in the Supplementary Information Section of this document. Additionally, the NRC will hold a public Webinar to facilitate the public's and other stakeholders' understanding of these issues and the submission of comments.

DATES: The public Webinar will be held in Rockville, Maryland on July 25, 2011, from 1 p.m. to 5 p.m. (EDT). Submit comments on the issues discussed in this document by September 16, 2011. Comments received after this date will be considered if it is practical to do so.

ADDRESSES: Please include Docket ID NRC-2011-0162 in the subject line of your comments. Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any one of the following methods:

• Federal Rulemaking Web site: Go to http://www.regulations.gov and search for documents filed under Docket ID NRC-2011-0162. Address questions about NRC dockets to Carol Gallagher, telephone: 301-492-3668, e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

You can access publicly available documents related to this notice using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The Draft Proposed Technical Basis is available electronically under ADAMS Accession Number ML111580353.

• Federal Rulemaking Web site: Public comments and supporting materials related to this notice can be found at http://www.regulations.gov by searching on Docket ID NRC-2011-0162.

FOR FURTHER INFORMATION CONTACT: Mr. Chad Glenn, Office of Federal and State Materials and Environmental Management Programs, U.S. Nuclear Regulatory Commission, Washington, DC 20555-0001; telephone: 301-415-6722; email: chad.glenn@nrc.gov.

SUPPLEMENTARY INFORMATION:

I. Background

The NRC recently published the Decommissioning Planning Rule (DPR) (76 FR 33512; June 17, 2011). The DPR applies to the operational phase of a licensed facility, and requires licensees to operate in a way to minimize spills, leaks, and other unplanned releases of radioactive contaminants into the environment. It also requires licensees to check periodically for radiological contamination throughout the site, including subsurface soil and groundwater. The DPR does not have a mandatory requirement for licensees to conduct radiological remediation during operations. Within the Staff Requirements Memorandum (SRM), SRM-SECY-07-0177 (ADAMS Accession No. ML073440549), that approved the proposed DPR, the Commission directed the staff to “make further improvements to the decommissioning planning process by addressing remediation of residual radioactivity during the operational phase with the objective of avoiding complex decommissioning challenges that can lead to legacy sites.” Therefore, the NRC staff is considering a potential rulemaking requiring prompt remediation during operations, and has begun gathering information pertinent to its considerations.

II. Discussion

Currently, there are no NRC regulations that require licensees to promptly remediate radiological contamination. To enhance stakeholder engagement in developing a technical basis as a precursor to a proposed rule, the NRC staff developed a Draft Proposed Technical Basis to facilitate discussion with, and to solicit input from, interested stakeholders. The Draft Proposed Technical Basis describes the NRC's preferred approach as a rulemaking to require licensees to promptly remediate radioactive spills and leaks when certain threshold limits are met. NRC's preferred approach contemplates using the NRC screening values for soil and the U.S. Environmental Protection Agency (EPA) maximum contamination levels for groundwater as the threshold limits. The preferred approach would also include a provision allowing licensees to delay remediation when certain conditions are met. To justify a delayed remediation, licensees would be required to perform analyses such as dose assessment, risk-assessments and/or cost-benefit analyses for the NRC's review.

In addition to the preferred approach, the NRC staff considered the following as alternative frameworks for requiring prompt remediation during operations:

(1) Issuing a regulation that would require licensees to conduct prompt remediation of a spill or leak when certain contaminant thresholds, such as the restricted release limits in Title 10 of the Code of Federal Regulations (10 CFR), § 20.1403, are exceeded. Unlike the preferred approach, this alternative would not provide the licensee with the opportunity to conduct an analysis to justify delayed remediation.

(2) Issuing site-specific license conditions requiring timely remediation following identification of contamination above some specified volume or concentration.

(3) Issuing new guidance in the form of a NUREG.

(4) No action (i.e., the NRC staff would rely on existing regulations and guidance documents to encourage licensees to consider prompt remediation after spills or leaks).

For more information on the preferred approach and alternatives, please refer to the Draft Proposed Technical Basis (ML111580353).

III. Specific Questions

To assist the NRC in developing a comprehensive technical basis document for a potential rulemaking requiring prompt remediation, the NRC is seeking stakeholder input on the following questions:

1. Should the NRC conduct rulemaking to address remediation of residual radioactivity during the operational phase? Why or why not?

2. If the NRC implements a rule that requires prompt remediation of radioactive spills and leaks, what concentration, dose limits, or other threshold limits should trigger prompt remediation? Should the thresholds differ for soil versus groundwater contamination? For example, should the NRC screening criteria be used to establish threshold levels for soil contamination? Should the EPA's maximum contaminant levels be used for drinking water?

3. Should the NRC allow licensees to justify delaying remediation under certain conditions when the contaminant level exceeds the threshold limit? If yes, then what conditions should be used to justify a delayed remediation?

4. Should factors such as safety, operational impact, and cost be a basis for delaying remediation?

5. If the NRC implements a rule that allows licensees to analyze residual radioactivity to justify delaying remediation, then what should the licensee's analysis cover? For example, what kind of dose assessment, risk-assessments and/or cost-benefit analyses should be performed to justify delayed remediation? What other types of analyses are relevant?

6. If the NRC implements a rule that allows licensees to analyze residual radioactivity to justify delaying remediation, what role should the cost of prompt remediation versus remediation at the time of decommissioning play in the analysis?

7. If the NRC implements a rule that allows licensees to analyze residual radioactivity to justify delaying remediation, what standards or criteria should a licensee use to demonstrate to the NRC that a sufficient justification to delay remediation has been met?

8. Are there any other alternatives beyond those discussed in the Draft Proposed Technical Basis document that the NRC should have considered to address prompt remediation?

9. What other issues should the NRC staff consider in developing a technical basis for a rulemaking to address prompt remediation of residual radioactivity during site operations?

IV. Public Webinar

To facilitate the understanding of the public and other stakeholders of these issues and the submission of comments, the NRC staff has scheduled a public Webinar, from 1 p.m. to 5 p.m. (EDT). Webinar participants will be able to view the presentation slides prepared by the NRC and electronically submit comments over the Internet. Participants must register to participate in the Webinar. Registration information may be found in the meeting notice (ML111780802). The meeting notice can also be accessed through the NRC's public Web site under the headings Public Meetings & Involvement > Public Meeting Schedule; see Web page http://www.nrc.gov/public-involve/public-meetings/index.cfm. Additionally, the final agenda for the public Webinar and the Draft Proposed Technical Basis document will be posted no fewer than 10 days prior to the Webinar at this Web site. Those who are unable to participate via Webinar may also participate via teleconference. For details on how to participate via teleconference, please contact Sarah Achten; telephone: 301-415-6009; email: sarah.achten@nrc.gov or T.R. Rowe; telephone: 301-415-8008; email: t.rowe@nrc.gov.

Dated at Rockville, Maryland, this 8th day of July 2011.
For the Nuclear Regulatory Commission.
Keith I. McConnell,
Deputy Director, Decommissioning and Uranium Recovery, Licensing Directorate, Division of Waste Management and Environmental Protection, Office of Federal and State Materials and Environmental Management Programs.

[FR Doc. 2011-17913 Filed 7-15-11; 8:45 am]

BILLING CODE 7590-01-P